DEPARTMENT OF HOUSING AND URBAN DEVELOPMENT

[Docket No. FR-6541-N-01]

The Performance Review Board

AGENCY: Office of the Secretary, HUD.

ACTION: Notice of appointments.

SUMMARY: The Department of Housing and Urban Development announces the establishment of the Departmental Performance Review Board (PRB) to make recommendations to the appointing authority on the performance and compensation of its Senior Executive Service (SES), Senior Level (SL) and Senior Technical (ST) professionals.

FOR FURTHER INFORMATION CONTACT: Persons desiring any further information about the PRB and its members may contact Deborah Robinson, Acting Director, Office of Executive Resources, Department of Housing and Urban Development, Washington, DC 20410. Telephone (202) 402-4994. (This is not a toll-free number). HUD welcomes and is prepared to receive calls from individuals who are deaf or hard of hearing, as well as individuals with speech or communication disabilities. To learn more about how to make an accessible telephone call, please visit https://www.fcc.gov/consumers/guides/telecommunications-relay-service-trs.

SUPPLEMENTARY INFORMATION: 5 U.S.C. 4314(c)(1) through (5) requires each agency to establish, in accordance with regulations prescribed by the Office of Personnel Management, one or more performance review boards. The following persons may be named to serve on the PRB from 2025 through 2026. They are listed by type of appointment, name, and official title.

Name | Official title
CAREER SES
AMMON, MATTHEW E | DIRECTOR, OFFICE OF HEALTHY HOMES AND LEAD HAZARD CONTROL.
BALLARD, DANIEL L | DEPUTY CHIEF FINANCIAL OFFICER.
BERENBAUM, DAVID L | DEPUTY ASSISTANT SECRETARY, OFFICE OF HOUSING COUNSELING.
BILLINGSLEY, DONALD A | ASSOCIATE DEPUTY ASSISTANT SECRETARY FOR MULTIFAMILY HOUSING.
BLONIARZ, CATHERINE A | ASSISTANT CHIEF FINANCIAL OFFICER FOR BUDGET.
BORUM, MARK G | DIRECTOR, DEPARTMENTAL ENFORCEMENT CENTER.
BROWN, AMY L | DEPUTY GENERAL COUNSEL FOR HOUSING PROGRAMS.
CLARK, DARRELL A | ACTING CHIEF TRANSFORMATION AND STRATEGY OFFICER.
CLARK, PRISCILLA W | CHIEF ADMINISTRATIVE OFFICER.
COOKE JR., KEVIN R | GENERAL DEPUTY ASSISTANT SECRETARY FOR FAIR HOUSING AND EQUAL OPPORTUNITY.
CORSIGLIA, NANCY E | ASSOCIATE DEPUTY ASSISTANT SECRETARY FOR FINANCE AND BUDGET.
DARLING, KATHERINE M | ASSISTANT CHIEF FINANCIAL OFFICER FOR SYSTEMS.
DAVIS, THOMAS R | DIRECTOR, OFFICE OF RECAPITALIZATION AND DEVELOPMENT.
FAUX, CHRISTIAN B | DIRECTOR, SINGLE FAMILY PROGRAM DEVELOPMENT.
FERNANDEZ, MARIA C | GENERAL DEPUTY ASSISTANT SECRETARY FOR COMMUNITY PLANNING AND DEVELOPMENT.
FERRY, SHYLON C | DEPUTY ASSISTANT SECRETARY FOR OPERATIONS.
FORRESTER, ALTHEA M | ASSOCIATE GENERAL COUNSEL FOR ASSISTED HOUSING AND COMMUNITY DEVELOPMENT.
FRECHETTE, HEIDI J | GENERAL DEPUTY ASSISTANT SECRETARY FORPUBLIC AND INDIAN HOUSING.
GAITHER, FELICIA R | DEPUTY ASSISTANT SECRETARY FOR FIELD OPERATIONS.
GARCIA-TOMCHICK, M. HONOR | DIRECTOR, OFFICE OF HUMAN CAPITAL SERVICES.
GOLRICK, JANET A | DIRECTOR, NATIONAL DISASTER COORDINATOR.
HEMPHILL, FRANCINE L | DEPUTY CHIEF PROCUREMENT OFFICER.
KEITH, GREGORY A | SENIOR VICE PRESIDENT AND CHIEF RISK OFFICER.
KUBACKI, MELAJO K | ASSISTANT CHIEF FINANCIAL OFFICER FOR FINANCIAL MANAGEMENT.
LARSON, JENNIFER L | DIRECTOR, OFFICE OF ASSEST MANAGEMENT AND PORTFOLIO OVERSIGHT.
LOFINMAKIN, ADETOKUNBO | SENIOR VICE PRESIDENT AND CHIEF FINANCIAL OFFICER FOR GINNIE MAE.
LUKOFF, ROGER M | DEPUTY ASSISTANT SECRETARY FOR HEALTHCARE PROGRAMS.
MICHALSKI, LORI A | ACTING GENERAL DEPUTY ASSISTANT SECRETARY FOR ADMINISTRATION (EFFECTIVE OCTOBER 5, 2025).
MONTGOMERY, MATISHA D | ACTING DEPUTY CHIEF HUMAN CAPITAL OFFICER (EFFECTIVE OCTOBER 5, 2025).
MORRIS, VANCE T | ASSOCIATE GENERAL DEPUTY ASSISTANT SECRETARY FOR HOUSING.
NARODE, DANE M | ASSOCIATE GENERAL COUNSEL FOR PROGRAM ENFORCEMENT.
NAZZARO | MARIANNE DEPUTY ASSISTANT SECRETARY FOR PUBLIC HOUSING INVESTMENT.
NICKLES, TRENT D | DEPUTY CHIEF ADMINISTRATIVE OFFICER.
PAO, JEAN LIN | DIRECTOR, OFFICE OF SMALL AND DISADVANTAGED BUSINESS UTILIZATION.
PARKER, TENNILLE S | DIRECTOR, DISASTER RECOVERY SPECIAL ISSUES DIVISION.
PETERSON, CHRISTINA M | ACTING CHIEF HUMAN CAPITAL OFFICER (EFFECTIVE OCTOBER 5, 2025).
RAMOS, RUSSELL A | SENIOR VICE PRESIDENT OF ENTERPRISE DATA AND TECHNOLOGY SOLUTIONS.
REEVES, ANTHONY B | DEPUTY ASSISTANT SECRETARY FOR OPERATIONS.
RICHARDSON, TODD M | GENERAL DEPUTY ASSISTANT SECRETARY FOR POLICY DEVELOPMENT AND RESEARCH.
ROBINSON, JOZETTA R | DIRECTOR, EXECUTIVE SECRETARIAT.
SARGEANT, JUAN C | DEPUTY CHIEF INFORMATION OFFICER.
SAUNDERS, ELISSA O | DIRECTOR, OFFICE OF SINGLE-FAMILY ASSET MANAGEMENT DEVELOPMENT.
SCOTT, PAUL A | BUSINESS CHANGE AND INTEGRATION OFFICER.
SHAFFER, JULIE A | ASSOCIATE DEPUTY ASSISTANT SECRETARY FOR SINGLE-FAMILY HOUSING (PHL).
TAYLOR, CHRISTOPHER D | DIRECTOR, FIELD POLICY AND MANAGEMENT.
TAYLOR, MELODY C | DEPUTY ASSISTANT SECRETARY, OFFICE OF POLICY AND LEGISLATIVE INITIATIVES.
TOLBERT, SHERECE M | ASSOCIATE GENERAL COUNSEL FOR INSURED HOUSING AND URBAN DEVELOPMENT.
USOWSKI, KURT G | DEPUTY ASSISTANT SECRETARY FOR ECONOMIC AFFAIRS.
WALKER, CHERYLAYNE B | FEDERAL HOUSING ADMINISTRATION COMPTROLLER.
WILLIAMS, WAYNE A | DIRECTOR, OFFICE OF DEPARTMENTAL EQUAL EMPLOYMENT OPPORTUNITY.
WORDEN, JEANINE M | ASSOCIATE GENERAL COUNSEL FOR FAIR HOUSING.
NONCAREER SES
CASSIDY, FRANCIS X | PRINCIPAL DEPUTY ASSISTANT SECRETARY FOR HOUSING.
CLEVELAND-LEGGETT, DENISE C | REGIONAL ADMINISTRATOR (ATL).
COWAN, CHARLES D | PRINCIPAL DEPUTY ASSISTANT SECRETARY FOR ADMINISTRATION.
DEFELICE, JOSEPH J | ASSISTANT DEPUTY SECRETARY FOR FIELD POLICY AND MANAGEMENT.
DEMARZO, BENJAMIN E | SENIOR ADVISOR.
GIBBS, JOHN N | PRINCIPAL DEPUTY ASSISTANT SECRETARY FOR POLICY DEVELOPMENT AND RESEARCH.
GORMLEY, JOSEPH M | EXECUTIVE VICE PRESIDENT & CHIEF OPERATING OFFICER FOR GINNIE MAE.
HOBBS, BENJAMIN R | PRINCIPAL DEPUTY ASSISTANT SECRETARY FOR PUBLIC AND INDIAN HOUSING.
HORN, BRYAN W | DEPUTY ASSISTANT SECRETARY FOR GRANTS PROGRAMS.
HUGHES, ANDREW D | DEPUTY SECRETARY.
IRVING, DENNIS L | PRINCIPAL DEPUTY CHIEF FINANCIAL OFFICER/SENIOR ADVISOR FOR GOVERNMENT EFFICIENCY.
JONES, MATTHEW M | DEPUTY ASSISTANT SECRETARY FOR MULTIFAMILY HOUSING.
KNITTLE, SCOTT A | PRINCIPAL DEPUTY GENERAL COUNSEL.
LOVETT, KASEY L | PRINCIPAL DEPUTY ASSISTANT SECRETARY FOR PUBLIC AFFAIRS.
MCCALL, JONATHAN A | CHIEF OF STAFF.
MILLER, BRIAN D | COUNSELOR TO THE SECRETARY.
SEATS, CHRISTOPHER L | DEPUTY ASSISTANT SECRETARY FOR MULTIFAMILY HOUSING PROGRAMS.
SIDLE, STEPHEN E | CHIEF INFORMATION OFFICER.
THURMAN, TODD M | DEPUTY CHIEF OF STAFF.
WILSON, REID A | DEPUTY CHIEF OF STAFF.
WOLL JR, DAVID C | GENERAL COUNSEL.

Andrew D. Hughes,
Deputy Secretary.

[FR Doc. 2025-20207 Filed 11-17-25; 8:45 am]

BILLING CODE P